DEPARTMENT OF ENERGY

Federal Energy Regulatory Commission

[Project No. 5737-032]

Santa Clara Valley Water District; Notice of Intent To Prepare an Environmental Impact Statement for the Proposed Surrender of Exemption, Schedule for Environmental Review, and Request for Comments

The staff of the Federal Energy Regulatory Commission (FERC or Commission) will prepare an environmental impact statement (EIS) that will discuss the environmental impacts of the Anderson Dam Project No. 5737 (Exemption) involving the proposal by the Santa Clara Valley Water District (Valley Water) to retrofit the Anderson Dam and to surrender the Exemption ¹ located on Coyote Creek, in Santa Clara County, California.² The surrender of the exemption and the retrofit of the dam are collectively referred to as the Project. The Commission will use this EIS in its decision-making process in accordance with the National Environmental Policy Act (NEPA). The schedule for preparation of the EIS is discussed in the Schedule for Environmental Review section of this notice.³

¹ Santa Clara Valley Irrigation District, 28 FERC ¶ 62,276 (1984).

² The surrender application was filed February 20, 2024, and supplemented on May 20, May 28, July 2, and July 3, 2024.

³ In accordance with the Council on Environmental Quality's regulations, the unique identification number for documents relating to this environmental review is EISX-019-20-000-1727256582. 40 CFR 1502.4(e)(10) (2024).

As part of the NEPA review process, the Commission takes into account concerns the public may have about proposals and the environmental impacts that could result whenever it considers the issuance of a surrender order. This gathering of public input is referred to as “scoping.” By notice issued on August 21, 2024, in Docket No. P-5737-032, the Commission opened a scoping period to solicit comments; this scoping period expires on October 21, 2024; however, Commission staff continues to accept comments after the comment period closes. Staff also held two scoping sessions in Morgan Hill, CA on August 18 and 19, 2024, to take oral scoping comments. Commission staff intends to prepare an EIS that will address the concerns raised during the scoping process and comments received in response to this notice. Therefore, if you previously submitted comments on this Project to the Commission during the scoping period, you do not need to file those comments again.

By this notice, the Commission requests public comments on the scope of issues to address in the environmental document, including comments on potential alternatives and impacts, and any relevant information, studies, or analyses of any kind concerning impacts affecting the quality of the human environment. To ensure that your comments are timely and properly recorded, please submit your comments so that the Commission receives them in Washington, DC on or before 5:00 p.m. Eastern Time on November 18, 2024.⁴ Comments may be submitted in written form. Further details on how to submit comments are provided in the Public Participation section of this notice.

⁴ The Commission's Rules of Practice and Procedure provide that, if a filing deadline falls on a Saturday, Sunday, holiday, or other day when the Commission is not open for business, the filing deadline does not end until the close of business on the next business day. 18 CFR 385.2007(a)(2) (2024). The filing deadline is 30 days from issuance of the notice (i.e., November 16, 2024), which falls on a Saturday, thus the filing deadline is the close of business Monday, November 18, 2024.

Public Participation

There are three methods you can use to submit your comments to the Commission. The Commission encourages electronic filing of comments and has staff available to assist you at (866) 208-3676 or FercOnlineSupport@ferc.gov. Please carefully follow these instructions so that your comments are properly recorded.

(1) You can file your comments electronically using the eComment feature, which is located on the Commission's website (www.ferc.gov) under the link to FERC Online. Using eComment is an easy method for submitting brief, text-only comments on a Project;

(2) You can file your comments electronically by using the eFiling feature, which is located on the Commission's website (www.ferc.gov) under the link to FERC Online. With eFiling, you can provide comments in a variety of formats by attaching them as a file with your submission. New eFiling users must first create an account by clicking on “eRegister.” You will be asked to select the type of filing you are making; a comment on a particular Project is considered a “Comment on a Filing”; or

(3) You can file a paper copy of your comments by mailing them to the Commission. Be sure to reference the Project docket number (P-5737-032) on your letter. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852.

Additionally, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Summary of the Proposed Surrender

The purpose of and need for this EIS is to analyze the exemptee's proposal to retrofit the Anderson Dam and to surrender the Exemption. The proposed action includes: (1) drawing down the Anderson reservoir to perform a seismic retrofit of the dam which would include removing Anderson Dam in stages and rebuilding the dam and spillway to meet public safety requirements; (2) decommissioning the hydroelectric facility; (3) implementing conservation measures downstream of the dam on Coyote Creek; and (4) surrendering the hydroelectric exemption. Construction to retrofit the dam would take approximately seven years to complete, proposed to begin in 2026. The proposal includes various environmental monitoring plans, site restoration activities, and mitigation measures including improvements to Ogier Ponds and enhancements to the fish passage facilities at the Coyote Percolation Dam located downstream and outside of the Anderson Dam Hydroelectric Project on Coyote Creek. After the surrender, Valley Water would continue to maintain Anderson Reservoir and the rebuilt dam under specific operational conditions discussed in the surrender application.

The NEPA Process and the EIS

The EIS issued by the Commission will discuss impacts that could occur as a result of the proposed dam retrofit and surrender under the relevant general resource areas:

• geology and soils

• water quantity

• water quality

• aquatic resources

• terrestrial resources

• threatened and endangered species

• recreation

• land use

• aesthetic resources

• socioeconomics

• cultural resources

• air quality, noise, and greenhouse gases; and

• environmental justice.

Commission staff will also make recommendations on how to lessen or avoid impacts on the various resource areas. Some of the expected effects include: (1) erosion of exposed soils during and following construction and associated effects of suspended and/or contaminated sediments on water quality; (2) effects on Valley Water's municipal water system and downstream water avalability for groundwater recharge; (3) aquatic habitat connectivity and fish passage, including species listed under the Endangered Species Act; (4) removal of existing recreational facilities and the proposed construction schedule affecting the visitation to recreational sites; (5) construction-related effects on public safety, local roads and traffic, and emergency response times; (6) effectiveness of short and long-term measures to avoid adverse effects on fire management; (7) the visual and audible experience of visitors and residents in the Project vicinity; (8) effects of reservoir drawdown and construction on property values around Anderson Reservoir and Anderson Dam, Morgan Hill; and Santa Clara County; (9) off-site effects to air quality and noise along haul and access routes; and (10) Project-related effects on communities with environmental justice concerns such as construction traffic and the removal of recreational facilities. Your comments will help Commission staff focus its analysis on the issues that may have a significant effect on the human environment.

The EIS will present Commission staff's independent analysis of the issues. The U.S. Army Corps of Engineers (Corps) is a cooperating agency in the preparation of the EIS.⁵ Staff will prepare a draft EIS which will be issued for public comment. Commission staff will consider all timely comments received during the comment period on the draft EIS and revise the document, as necessary, before issuing a final EIS. Any draft and final EIS will be available in electronic format in the public record through eLibrary.⁶ (If eSubscribed, you will receive instant email notification when the environmental document is issued.

⁵ The Council on Environmental Quality regulations addressing cooperating agency responsibilities are at 40 CFR 1501.8.

⁶ For instructions on connecting to eLibrary, refer to the last page of this notice.

Alternatives Under Consideration

As part of our review in the NEPA document, the Commission will consider a range of reasonable alternatives that are technically and economically feasible and meet the purpose and need for the proposed action.⁷ Alternatives that do not meet these requirements will be summarized and dismissed from further consideration in the NEPA document. Staff will also consider the no-action alternative. Currently, we are considering an alternative to the proposed action that potentially meets the above criteria: the applicants' proposed action with staff modifications.

⁷ 40 CFR 1508.1(hh).

The alternatives we are considering may be expanded based on the comments we receive, provided they meet the required criteria. With this notice, we ask commenters to identify other potential alternatives for consideration.

Schedule for Environmental Review

On March 21, 2024, the Commission issued its Notice of Application for Surrender of Exemption Accepted for Filing for the Project. This Notice of Intent identifies Commission staff's planned schedule for completion of the final EIS for the Project, which is based on an issuance of the draft EIS in May 2025, opening a 45-day public comment period. All comments filed will be reviewed by staff and considered in the Commission's final decision on the proceeding.

Issuance of Notice of Availability of the final EIS—November 21, 2025

In accordance with the Council on Environmental Quality's regulations for EISs, agencies are to make schedules for completing the NEPA process publicly available.⁸ This notice identifies the Commission's anticipated schedule for issuance of the final order for the Project, which serves as the Commission's record of decision. We currently anticipate issuing a final order for the Project no later than:

⁸ 40 CFR 1501.10(h).

Issuance of the Surrender Order—February 19, 2026

If a schedule change becomes necessary, an additional notice will be provided so that the relevant agencies are kept informed of the Project's progress. After the final EIS is issued, the Commission will make a decision on the proposal.

Permits and Authorizations

The table below lists the anticipated permits and authorizations for the Project required under federal law. This list may not be all-inclusive and does not preclude any permit or authorization if it is not listed here. Agencies with jurisdiction by law and/or special expertise may formally cooperate in the preparation of the Commission's EIS and may adopt the EIS to satisfy its NEPA responsibilities related to this Project.

Agency | Permit or authorization
U.S. Army Corps of Engineers | Section 404 of the Clean Water Act Permit.
California State Water Resources Control Board | Section 401 Water Quality Certification.

Additional Information

Additional information about the Project is available on the FERC website at www.ferc.gov using the eLibrary link. Click on the eLibrary link, click on “General Search” and enter the Docket No. P-5737 in the “Docket Number” field. Be sure you have selected an appropriate date range. For assistance, please contact FERC Online Support at FercOnlineSupport@ferc.gov or (866) 208-3676, or for TTY, contact (202) 502-8659. The eLibrary link also provides access to the texts of all formal documents issued by the Commission, such as orders, notices, and rulemakings.

Any questions regarding this notice may be directed to Jennifer Polardino at jennifer.polardino@ferc.gov, or (202) 502-6437.

Dated: October 17, 2024.
Debbie-Anne A. Reese,
Secretary.

[FR Doc. 2024-24520 Filed 10-22-24; 8:45 am]

BILLING CODE 6717-01-P